NATIONAL SCIENCE FOUNDATION

National Science Board; Sunshine Act Meetings

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: Wednesday, December 1, 2010, at 8 a.m.; and Thursday, December 2, 2010 at 8 a.m.

PLACE: National Science Foundation, 4201 Wilson Blvd., Room 1235, Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

STATUS: Some portions open, some portions closed.

Open Sessions

August 25, 2010

8 a.m.-8:05 a.m.

8:05 a.m.-9:50 a.m.

9:50 a.m.-11 a.m.

11 a.m.-12 p.m.

1 p.m.-1:15 p.m.

1:15 p.m.-2 p.m.

August 26, 2010

8 a.m.-8:30 a.m.

8:30 a.m.-10 a.m.

10 a.m.-10:15 a.m.

1 p.m.-3 p.m.

Closed Sessions

August 25, 2010

2 p.m.-3 p.m.

5 p.m.-5:15 p.m.

August 26, 2010

10:15 a.m.-10:30 a.m.

10:30 a.m.-11 a.m.

11 a.m.-12 p.m.

Updates: Please refer to the National Science Board Web site http://www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

MATTERS TO BE DISCUSSED:

Wednesday, December 1, 2010

Chairman's Introduction

Open Session: 8 a.m.-8:05 a.m., Room 1235

Committee on Science and Engineering Indicators (SEI)

Open Session: 8:05 a.m.-9:50 a.m., Room 1235

• Approval of Minutes.

• Chairman's Remarks.

• Discussion of key dates and activities for production of Science and Engineering Indicators 2012 Digest.

• Discussion and Approval of Science and Engineering Indicators 2012 Narrative Chapter Outlines.

• Selection of Lead Chapter Reviewers.

• Electronic Distribution of Initial Chapter Drafts for Board Review.

• Update on Graphic Design Review of State Chapter.

• Update on SBE Expert Workshops on Measuring Public Scientific Knowledge and Understanding.

• SRS Data Development Activities.

• Chairman's Summary.

Committee on Education and Human Resources (CEH)

Open Session: 9:50 a.m.-11 a.m., Room 1235

• Approval of Minutes.

• PCAST Report: Prepare and Inspire: K-12 Education in Science, Technology, Engineering, and Math (STEM) for America's Future.

○ Speaker: Dr. James Gates, Jr., PCAST Member.

○ Discussant: Dr. Joan Ferrini-Mundy, Acting Assistant Director HER.

• Update on NSF's Response to the STEM Innovators Report and Other Recent STEM Education Policy Recommendations.

○ Speaker: Dr. Joan Ferrini-Mundy, Acting Assistant Director HER.

CPP Subcommittee on Polar Issues (SOPI)

Open Session: 11 a.m.-12 p.m., Room 1235

• Chairman's Remarks.

• OPP Director's Remarks.

• U.S. Antarctic Program Review & Timetable.

• Update on Arctic Ice Cover.

• Update on the Polar Research Vessel.

CPP Task Force on Unsolicited Mid-Scale Research (MS)

Open Session: 1 p.m.-1:15 p.m., Room 1235

• Approval of Minutes.

• Discussion of focus groups.

• Other information gathering and next steps related to unsolicited mid-scale research.

Task Force on Merit Review (MR)

Open Session: 1:15 p.m.-2 p.m., Room 1235

• Approval of Minutes.

• Chairman's Remarks.

• Status Update on Data-Gathering Activities.

• Initiate Discussion of Community Workshop.

Committee on Programs and Plans (CPP)

Closed Session 2 p.m.-3 p.m., Room 1235

• Committee Chairman's Remarks.

• NSB Action Items: Science of Learning Centers: Extension of Funding for Two Centers.

○ Learning in Informal and Formal Environments (LIFE) Center.

○ Center of Excellence for Learning in Education, Science and Technology (CELEST).

Committee on Audit and Oversight (A&O)

Open Session 3 p.m.-5 p.m., Room 1235

• Approval of Minutes.

• Chairman's Remarks.

• Human Resources Update (Dr. Marrett).

• Inspector General's Update (Ms. Lerner).

• FY2010 Financial Statement Audit/FISMA—(Auditors).

• Collaborative Audit Resolution.

• FY2011 OIG Audit Plan.

• OIG Semi-annual Report (Ms. Lerner and Dr. Frye).

• Chief Financial Officer's Update (Ms. Rubenstein).

• Chief Information Officer's Report (Ms. Norris).

• Review of NSB Policy on Award Thresholds Requiring NSB Approval Committee.

• Chairman's Closing Remarks.

Committee on Audit and Oversight (A&O)

Closed Session 5 p.m.-5:15 p.m., Room 1235

• Committee Chair's Opening Remarks.

• Procurement Activities.

Thursday, December 2, 2010

CSB Subcommittee on Facilities

Open Session: 8 a.m.-8:30 a.m., Room 1235

• Chairman's Remarks.

• Review of the NSF Principles Document.

• Discuss Draft Interim Report.

• Discuss Next Steps for Moving Forward to the May 2011 Meeting.

CSB Task Force on Data Policies

Open Session: 8:30 a.m.-10 a.m., Room 1235

• Approval of Minutes.

• Chairman's Remarks.

• Presentations on Open Access.

• Discussion of March 27-29, 2010 Workshop.

• Closing Remarks.

Committee on Strategy and Budget (CSB)

Open Session: 10 a.m.-10:15 a.m., Room 1235

• Approval of Minutes.

• Chairman's Remarks.

• Update on FY 2011 Appropriations Process.

• NSB Budget Update.

• NSF Strategic Plan Update.

• Closing Remarks.

Committee on Strategy and Budget (CSB)

Closed Session: 10:15 a.m.-10:30 a.m., Room 1235

• Update on NSF FY 2012 Budget Development.

Plenary Executive

Closed Session: 10:30 a.m.-11 a.m., Room 1235

• Approval of Plenary Executive Closed Minutes, September 2010.

• Candidate Sites for Board Retreat and Meeting of September 2011.

• Discussion and Selection of Honorary Awards.

Plenary

Closed Session: 11 a.m.-12 p.m., Room 1235

• Approval of Minutes.

• Awards and Agreements (Resolutions)

○ Logistics Contract and Renewal of two Science of Learning Centers.

• Closed Committee Reports.

Plenary

Open Session: 1 p.m.-3 p.m., Room 1235

• Presentation by 60th Anniversary Speaker, Dr. Emily Brodsky.

• Presentation on NSF Open Government, Dr. José Munoz.

• Presentation on NSF.

• Response to Oil Spill Research, Dr. Timothy Killeen.

• Presentation on Update on Science, Engineering, and Education for Sustainability (SEES), Dr. Timothy Killeen.

• Approval of Minutes.

• Chairman's Report.

• Director's Report.

• Open Committee Reports.

Adjourn 3 p.m.

Daniel A. Lauretano,
Counsel to the National Science Board.

[FR Doc. 2010-29629 Filed 11-19-10; 4:15 pm]

BILLING CODE 7555-01-P